DEPARTMENT OF TRANSPORTATION

Federal Aviation Administration

[Docket No. FAA-2003-15361]

Ultrawideband Compatibility Testing

AGENCY: Federal Aviation Administration (FAA), DOT.

ACTION: Notice; request for comments.

SUMMARY: The Federal Aviation Administration, Office of Spectrum Policy and Management, is conducting bench tests to investigate the impact of ultrawideband emissions on selected aeronautical systems which operate below 1 GHz and on the global positioning system (GPS). Public comment is being sought on the test plans, and therefore a two week comment period will follow the date of posting of this notice. Three draft test plans cover (1) global positioning system (GPS) receiver, (2) Air Traffic Control communication receiver, and (3) other navigation receivers. The three test plans may be viewed and downloaded from the World Wide Web at: http:www.faa.gov/ats/aaf/asr/library/downloads.htm. Click on “ultrawideband”. The documents are available in both MS Word and Acrobat 5 format.

Comments should be directed to: UWB Test Plan Comments, FAA, ASR-1, 800 Independence Avenue, SW., Washington, DC 21591.

Comments can also be send by e-mail to Oscar.Alvarez@faa.gov.

DATES: Comments will be accepted during the two week period following publication of this notice.

FOR FURTHER INFORMATION CONTACT: Mr. Oscar Alvarez, FAA Spectrum Policy and Management, ASR-2, 800 Independence Ave., SW., Washington, DC 20591, (202) 267-7531, e-mail oscar.alvarez@faa.gov.

Issued in Washington, DC, on June 4, 2003.
Donald Willis,
Manager, Spectrum Planning and International Division, ASR-200, Spectrum Policy and Management.

[FR Doc. 03-14587 Filed 6-9-03; 8:45 am]

BILLING CODE 4910-13-M